DEPARTMENT OF THE INTERIOR

Bureau of Land Management

[LLCO921000-L13200000-EL0000, COC-74895]

Notice of Invitation to Participate; Exploration for Coal in Colorado License Application COC-74895

AGENCY: Bureau of Land Management, Interior.

ACTION: Notice of invitation.

SUMMARY: Pursuant to the Mineral Leasing Act of 1920, as amended by the Federal Coal Leasing Amendments Act of 1976, and to Bureau of Land Management (BLM) regulations, all interested parties are hereby invited to participate with Peabody Sage Creek Mining, LLC, on a pro rata cost-sharing basis, in its program for the exploration of coal deposits owned by the United States of America in lands located in Routt County, Colorado.

DATES: This notice was published in the Steamboat Pilot and Craig Daily Press, once each week for two consecutive weeks beginning the week of July 17, 2011, prior to publication in the Federal Register. Any party electing to participate in this exploration program must send written notice to both Peabody Sage Creek Mining, LLC, and the BLM as provided in the ADDRESSES section below by October 11, 2011 or 10 calendar days after the last publication of this notice in the Steamboat Pilot and Craig Daily Press newspaper, whichever is later.

ADDRESSES: Copies of the exploration plan are available for review during normal business hours in the following offices (case file number COC-74895): BLM, Colorado State Office, 2850 Youngfield Street, Lakewood, Colorado 80215, and BLM, Little Snake Field Office, 455 Emerson Street, Craig, Colorado 81625. Any party electing to participate in this exploration program shall notify the BLM State Director, in writing, at the BLM Colorado State Office at the address above and Peabody Sage Creek Mining, LLC, Attn: Mike Ludlow, 36600 CR 27, Hayden, Colorado, 81639.

FOR FURTHER INFORMATION CONTACT: Kurt M. Barton at (303) 239-3714, kbarton@blm.gov; or Jennifer Maiolo at (970) 826-5077, jmaiolo@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Peabody Sage Creek Mining, LLC, has applied to the BLM for a coal exploration license. The purpose of the exploration program is to obtain geologic information about the coal. The BLM regulations at 43 CFR part 3410 require the publication of an invitation to participate in the coal exploration in the Federal Register. The Federal coal resources included in the exploration license application are located in the following described lands in Routt County, Colorado:

Sixth Principal Meridian

T. 5 N., R. 87 W., 6th P.M.

Sec. 4, All;

Sec. 5, Lots 2, 3, 5, and 6, SE¼NE¼, and NE¼SE¼;

Sec. 6, SE¼NW¼, NE¼SW¼, and Lots 5-11, inclusive;

Sec. 7, SW¼, S½NW¼, W½NE¼, SE¼, and SE¼NE¼;

Sec. 8, SE¼, W½SW¼, SE¼NE¼, SW¼NW¼, and NE¼NW¼;

Sec. 9, All;

Sec. 21, W½NE¼;

Sec. 22, N½, and NW¼SW¼.

T. 6 N., R. 87 W., 6th P.M.

Sec. 29, S½, and S½N½;

Sec. 30, S½NE¼, SE¼NW¼, E½SW¼, SE¼, and Lots 2-4, inclusive;

Sec. 31, All;

Sec. 32, NW¼, SW¼, SE¼, and W½NE¼;

Sec. 33, W½SW¼.

T. 5 N., R. 88 W., 6th P.M.

Sec. 1, S½NE¼, SE¼NW¼, E½SW¼, SE¼, and Lots 5-7, inclusive; and

Sec. 12, E½.

These lands contain 6,197 acres, more or less.

The proposed exploration program is fully described in, and will be conducted pursuant to, an exploration plan to be approved by the BLM.

Authority: 43 CFR 3410.2-1(c)(1).

Helen M. Hankins,
State Director.

[FR Doc. 2011-22951 Filed 9-7-11; 8:45 am]

BILLING CODE 4310-JB-P